SURFACE TRANSPORTATION BOARD

[Docket No. EP 290 (Sub-No. 4)]

Railroad Cost Recovery Procedures—Productivity Adjustment

AGENCY: Surface Transportation Board.

ACTION: Presentation of the Board's calculation for the change in railroad productivity for the 2019-2023 averaging period.

SUMMARY: In a decision served on February 28, 2025, the Board proposed to adopt 1.014 (1.4% per year) as the measure of average (geometric mean) change in railroad productivity for the 2019-2023 (five-year) period. The Board's February 28, 2025 decision stated that comments may be filed addressing any perceived data and computational errors in the Board's calculation. The decision also stated that, unless a further order is issued postponing the effective date, the decision will take effect on March 20, 2025.

DATES: Comments are due by March 17, 2025.

ADDRESSES: Comments may be filed via e-filing on the Board's website at www.stb.gov. Comments must be served on all parties appearing on the service list.

FOR FURTHER INFORMATION CONTACT: Pedro Ramirez at (202) 245-0333. If you require accommodation under the Americans with Disabilities Act, please call (202) 245-0245.

SUPPLEMENTARY INFORMATION: Additional information is contained in the Board's decision, which is available at www.stb.gov under Docket No. EP 290 (Sub-No. 4).

Decided: February 28, 2025.

By the Board, Board Members Fuchs, Hedlund, Primus, and Schultz.

Jeffrey Herzig,
Clearance Clerk.

[FR Doc. 2025-03568 Filed 3-4-25; 8:45 am]

BILLING CODE 4915-01-P